EVIRONMENTAL PROTECTION AGENCY

40 CFR Part 52

[MD203-3119; FRL-9454-1]

Approval and Promulgation of Air Quality Implementation Plans; Maryland; Update to Materials Incorporated by Reference

AGENCY: Environmental Protection Agency (EPA).

ACTION: Final rule; administrative change.

SUMMARY: EPA is updating the materials submitted by Maryland that are incorporated by reference (IBR) into the Maryland State Implementation Plan (SIP). The regulations affected by this update have been previously submitted by the Maryland Department of the Environment (MDE) and approved by EPA. This update affects the SIP materials that are available for public inspection at the National Archives and Records Administration (NARA), the Air and Radiation Docket and Information Center located at EPA Headquarters in Washington, DC, and the EPA Regional Office.

DATES: Effective Date: This action is effective August 22, 2011.

ADDRESSES: SIP materials which are incorporated by reference into 40 CFR part 52 are available for inspection at the following locations: Air Protection Division, U.S. Environmental Protection Agency, Region III, 1650 Arch Street, Philadelphia, Pennsylvania 19103; the Air and Radiation Docket and Information Center, U.S. Environmental Protection Agency, 1301 Constitution Avenue, N.W., Room Number 3334, EPA West Building, Washington, DC 20460; or the National Archives and Records Administration (NARA). For information on the availability of this material at NARA, call 202-741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION:

I. Background

The SIP is a living document which the State revises as necessary to address its unique air pollution problems. Therefore, EPA, from time to time, must take action on SIP revisions containing new and/or revised regulations as being part of the SIP. On May 22, 1997 (62 FR 27968), EPA revised the procedures for incorporating by reference Federally-approved SIPs, as a result of consultations between EPA and the Office of the Federal Register (OFR). The description of the revised SIP document, IBR procedures and “Identification of plan” format are discussed in further detail in the May 22, 1997 Federal Register document. On November 1, 2004 (69 FR 69304), EPA published a document in the Federal Register beginning the new IBR procedure for Maryland. On February 2, 2006 (71 FR 5607), May 18, 2007 (72 FR 27957), March 11, 2008 (73 FR 12895), and March 19, 2009 (74 FR 11647), EPA published updates to the IBR material for Maryland.

Since the publication of the last IBR update, EPA has approved the following regulatory changes to the following Maryland regulations:

A. Added Regulations

1. COMAR 26.11.10 (Control of Iron and Steel Production Installations), regulation .05—1 (Control of Carbon Monoxide Emissions from Basic Oxygen Furnaces).

2. COMAR 26.11.19 (Volatile Organic Compounds from Specific Processes), regulations .09-1 (Control of VOC Emissions from Industrial Solvent Cleaning Operations Other Than Cold and Vapor Degreasing), .10-1 (Flexible Packaging Printing), and .33 (Control of Volatile Organic Compounds (VOCs) from Flat wood Paneling Coatings).

3. COMAR 26.11.28 (Clean Air Interstate Rule)—all regulations (.01 through .08).

B. Revised Regulations

1. COMAR 26.11.01.01 (General Administrative Provisions—Definitions), section .01B(17) (definition of “fuel burning equipment”).

2. COMAR 26.11.09 (Control of Fuel Burning Equipment, Stationary Internal Combustion Engines, and Certain Fuel-Burning Installations), regulation .01B (removal of the definition of “fuel burning equipment”).

3. COMAR 26.11.19 (Volatile Organic Compounds from Specific Processes), regulations .06 (Large Appliance Coating), .07 (Paper, Fabric, Film, Foil, Vinyl, and Other Plastic Parts Coating), and .10 (Flexographic and Rotogravure Printing).

C. Removed Regulations

COMAR 26.11.10 (Control of Iron and Steel Production Installations), Regulation .06[2] (Carbon Monoxide).

II. EPA Action

In this action, EPA is doing the following:

A. In Paragraph 52.1070(b)

Announcing the update to the IBR material as of August 1, 2011.

B. In Paragraph 40 CFR 52.1070(c)

1. Removing the entry for COMAR 26.11.10.06[1], and replacing it with an entry for COMAR 26.11.10.06.

2. Correcting a typographical error in the title heading entry for COMAR 26.11.09.

3. Correcting typographical errors in the “Title/subject” column for the following entries: COMAR 26.11.19.07, 26.11.19.07-1, 26.11.19.09, 26.11.19.24, 26.11.29.11, and 11.14.08.22.

4. Correcting the date format in the “State effective date” column for the following entries: COMAR 26.11.24.04, and all 26 entries in COMAR 26.11.32.

5. Correcting the text in the “Additional explanation/citation at 40 CFR 52.1100” column for COMAR 26.11.01.01, 26.11.09.01, 26.11.19.10, and 26.11.29.09.

C. In Paragraph 52.1070(d)

Correcting the date in the “State effective date” column for the entry “Potomac Electric Power Company (PEPCO)—Chalk Point Units #1 and #2.”

D. In Paragraph 52.1070(e)

Correcting the date format for the following entries:

1. Carbon Monoxide Maintenance Plan—City of Baltimore—Regional Planning District 118 (“EPA approval date” column).

2. Carbon Monoxide Maintenance Plan—Montgomery County Election Districts 4, 7, and 13; Prince Georges County Election Districts 2, 6, 12, 16, 17, and 18 (“EPA approval date” column).

3. 1-hour Ozone Attainment Plan—Washington DC 1-hour ozone nonattainment area (“State effective date” column); and,

4. 8-Hour Ozone Maintenance Plan for the Kent and Queen Anne's Area (“State effective date” column).

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect table entries.

III. Statutory and Executive Order Reviews

A. General Requirements

Under the Clean Air Act (CAA), the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the state, and EPA notes that it will not impose substantial direct costs on Tribal governments or preempt Tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the CAA pertaining to petitions for judicial review are not applicable to this action. Prior EPA rulemaking actions for each individual component of the Maryland SIP compilations had previously afforded interested parties the opportunity to file a petition for judicial review in the United States Court of Appeals for the appropriate circuit within 60 days of such rulemaking action. Thus, EPA sees no need in this action to reopen the 60-day period for filing such petitions for judicial review for this “Identification of plan” update action for Maryland.

List of Subjects in 40 CFR Part 52

Environmental protection, Air pollution control, Carbon monoxide, Incorporation by reference, Intergovernmental relations, Lead, Nitrogen dioxide, Ozone, Particulate matter, Reporting and record keeping requirements, Sulfur oxides, Volatile organic compounds.

Dated: August 8, 2011.
W.C. Early,
Acting Regional Administrator, Region III.

40 CFR part 52 is amended as follows:

PART 52—[AMENDED]

1. The authority for citation for part 52 continues to read as follows:

Authority: 42 U.S.C. 7401 et seq.

Subpart V—Maryland

2. Section 52.1070 is amended by:

a. Revising paragraph (b).

b. In paragraph (c),

i. Revising the entries for COMAR 26.11.01.01, 26.11.09 heading, and 26.11.09.01.

ii. Removing the entry for COMAR 26.11.10.06[1], and adding an entry for COMAR 26.11.10.06 in its place.

iii. Revising the entries for COMAR 26.11.19.07, 26.11.19.07-1, 26.11.19.09, 26.11.19.10, 26.11.19.24, 26.11.24.04, 26.11.29.09, 26.11.29.11, 26.11.32.01 through 26.11.32.26 inclusive, and 11.14.08.22.

c. In paragraph (d), revising the entry for Potomac Electric Power Company (PEPCO)—Chalk Point Units #1 and #2.

d. In paragraph (e), revising the entries for:

i. Carbon Monoxide Maintenance Plan—City of Baltimore—Regional Planning District 118.

ii. Carbon Monoxide Maintenance Plan—Montgomery County Election Districts 4, 7, and 13; Prince Georges County Election Districts 2, 6, 12, 16, 17, and 18.

iii. 1-hour Ozone Attainment Plan—Washington DC 1-hour ozone nonattainment area.

iv. 8-Hour Ozone Maintenance Plan for the Kent and Queen Anne's Area.

The amendments read as follows:

§ 52.1070 Identification of plan.

* * * * *

(b) Incorporation by reference.

(1) Material listed as incorporated by reference in paragraphs (c) and (d) was approved for incorporation by reference by the Director of the Federal Register in accordance with 5 U.S.C. 552(a) and 1 CFR part 51. The material incorporated is as it exists on the date of the approval, and notice of any change in the material will be published in the Federal Register. Entries in paragraphs (c) and (d) of this section with EPA approval dates on or after August 1, 2011 will be incorporated by reference in the next update to the SIP compilation.

(2)(i) EPA Region III certifies that the rules and regulations provided by EPA at the addresses in paragraph (b)(3) of this section are an exact duplicate of the officially promulgated State rules and regulations which have been approved as part of the State implementation plan as of August 1, 2011.

(ii) EPA Region III certifies that the source-specific requirements provided by EPA at the addresses in paragraph (b)(3) of this section are an exact duplicate of the officially promulgated source-specific requirements which have been approved in the notebook “40 CFR 52.1070(d)—Source-Specific Requirements” as part of the State implementation plan as of December 1, 2008. No additional revisions were made since between December 1, 2008 and August 1, 2011.

(3) Copies of the materials incorporated by reference may be inspected at the EPA Region III Office at 1650 Arch Street, Philadelphia, PA 19103. For further information, call (215) 814-2108; the EPA, Air and Radiation Docket and Information Center, Room Number 3334, EPA West Building, 1301 Constitution Avenue NW, Washington, DC 20460. For further information, call (202) 566-1742; or at the National Archives and Records Administration (NARA). For information on the availability of this material at NARA, call 202-741-6030, or go to: http://www.archives.gov/federal_register/code_of_federal_regulations/ibr_locations.html.

(c) EPA-approved regulations.

EPA-Approved Regulations in the Maryland SIP
Code of Maryland administrative regulations (COMAR) citation | Title/subject | State effective date | EPA approval date | Additional explanation/citation at 40 CFR § 52.1100
26.11.01 | General Administrative Provisions
26.11.01.01 | Definitions | 9/20/10 | 2/22/11 76 FR 9650 | 1. Exceptions: Paragraphs .01B(3), (13), (21) through (23), (25); all of section .01C. 2. Revision to paragraph .01B(17). The SIP effective date is 4/25/11.
* * * * * * *
26.11.09 | Control of Fuel Burning Equipment, Stationary Internal Combustion Engines, and Certain Fuel-Burning Installations
26.11.09.01 | Definitions | 9/20/10 | 2/22/11 76 FR 9650 | Revision removes definition of “fuel-burning equipment.” The SIP effective date is 4/25/11.
* * * * * * *
26.11.10 | Control of Iron and Steel Production Installations
* * * * * * *
26.11.10.06 | Control of Volatile Organic Compounds from Iron and Steel Production Installations | 12/25/00 | 11/7/01 66 FR 56222 | (c)(163).
* * * * * * *
26.11.19 | Volatile Organic Compounds from Specific Processes
* * * * * * *
26.11.19.07 | Paper, Fabric, Film, Foil, Vinyl, and Other Plastic Parts Coating | 4/19/10 | 9/27/10 75 FR 59084 | Revisions to Section .07A, .07B and the addition of new Section .07D.
26.11.19.07-1 | Control of VOC Emissions from Solid Resin Decorative Surface Manufacturing | 6/15/98 | 6/17/99 64 FR 32415 | (c)(142).
* * * * * * *
26.11.19.09 | Control of Volatile Organic Compounds (VOC) Emissions from Cold and Vapor Degreasing | 6/5/95 | 8/4/97 62 FR 41853 | (c)(123).
26.11.19.10 | Flexographic and Rotogravure Printing | 4/19/10 | 9/27/10 75 FR 59086 | Revision to section .10B(2).
* * * * * * *
26.11.19.24 | Control of VOC Emissions from Leather Coating | 8/11/97 | 9/23/99 64 FR 41445 | (c)(137).
* * * * * * *
26.11.24 | Stage II Vapor Recovery at Gasoline Dispensing Facilities
* * * * * * *
26.11.24.04 | Testing Requirements | 2/28/05 | 5/8/06 71 FR 26688 |
* * * * * * *
26.11.29 | NOX Reduction and Trading Program
* * * * * * *
26.11.29.09 | Requirements for New Sources and Set-Aside Pool | 11/24/03 | 3/22/04 69 FR 13236 | (c)(186)(i)(C)(1)-(5).
* * * * * * *
26.11.29.11 | Record Keeping | 5/1/00 | 1/10/01 66 FR 1866 | (c)(154)(i)(B)(1).
* * * * * * *
26.11.32 | Control of Emissions of Volatile Organic Compounds from Consumer Products
26.11.32.01 | Applicability and Exemptions | 6/18/07 | 12/10/07 72 FR 69621
26.11.32.02 | Incorporation by Reference | 6/18/07 | 12/10/07 72 FR 69621
26.11.32.03 | Definitions | 6/18/07 | 12/10/07 72 FR 69621
26.11.32.04 | Standards—General | 6/18/07 | 12/10/07 72 FR 69621
26.11.32.05 | Standards—Requirements for Charcoal Lighter Materials | 8/18/03 | 12/09/03 68 FR 68523 | (c)(185).
26.11.32.06 | Standards—Requirements for Aerosol Adhesives | 6/18/07 | 12/10/07 72 FR 69621
26.11.32.07 | Standards—Requirements for Floor Wax Strippers | 8/18/03 | 12/09/03 68 FR 68523 | (c)(185).
26.11.32.08 | Requirements for Contact Adhesives, Electronic Cleaners, Footwear, or Leather Care Products, and General Purpose Cleaners | 6/18/07 | 12/10/07 72 FR 69621 | New Regulation.
26.11.32.09 | Requirements for Adhesive Removers, Electrical Cleaners, and Graffiti Removers | 6/18/07 | 12/10/07 72 FR 69621 | New Regulation.
26.11.32.10 | Requirements for Solid Air Fresheners and Toilet and Urinal Care Products | 6/18/07 | 12/10/07 72 FR 69621 | New Regulation.
26.11.32.11 | Innovative Products—CARB Exemption | 6/18/07 | 12/10/07 72 FR 69621 | Recodification of existing Regulation .08.
26.11.32.12 | Innovative Products—Department Exemption | 6/18/07 | 12/10/07 72 FR 69621
26.11.32.13 | Administrative Requirements | 6/18/07 | 12/10/07 72 FR 69621 | Recodification of existing Regulation .10; Amended.
26.11.32.14 | Reporting Requirements | 6/18/07 | 12/10/07 72 FR 69621 | Recodification of existing Regulation .11; Amended.
26.11.32.15 | Variances | 6/18/07 | 12/10/07 72 FR 69621 | Recodification of existing Regulation .12; Amended.
26.11.32.16 | Test Methods | 6/18/07 | 12/10/07 72 FR 69621 | Recodification of existing Regulation .13; Amended.
26.11.32.17 | Alternative Control Plan (ACP) | 6/18/07 | 12/10/07 72 FR 69621 | Recodification of existing Regulation .14; Amended.
26.11.32.18 | Approval of an ACP Application | 6/18/07 | 12/10/07 72 FR 69621 | Recodification of existing Regulation .15; Amended.
26.11.32.19 | Record Keeping and Availability of Requested Information | 6/18/07 | 12/10/07 72 FR 69621 | Recodification of existing Regulation .16.
26.11.32.20 | Violations | 6/18/07 | 12/10/07 72 FR 69621 | Recodification of existing Regulation .17.
26.11.32.21 | Surplus Reduction and Surplus Trading | 6/18/07 | 12/10/07 72 FR 69621 | Recodification of existing Regulation .18; Amended.
26.11.32.22 | Limited-use surplus reduction credits for early formulations of ACP Products | 6/18/07 | 12/10/07 72 FR 69621 | Recodification of existing Regulation .19; Amended.
26.11.32.23 | Reconciliation of Shortfalls | 6/18/07 | 12/10/07 72 FR 69621 | Recodification of existing Regulation .20; Amended.
26.11.32.24 | Modifications to an ACP | 6/18/07 | 12/10/07 72 FR 69621 | Recodification of existing Regulation .21; Amended.
26.11.32.25 | Cancellation of an ACP | 6/18/07 | 12/10/07 72 FR 69621 | Recodification of existing Regulation .22; Amended.
26.11.32.26 | Transfer of an ACP | 6/18/07 | 12/10/07 72 FR 69621 | Recodification of existing Regulation .23
* * * * * * *
11.14.08 | Vehicle Emissions Inspection Program
* * * * * * *
11.14.08.22 | Evaporative Test Equipment, Gas Cap Leak Test Equipment and On-Board Diagnostics Interrogation Equipment Periodic Quality Assurance Checks | 1/2/95 10/19/98 | 10/29/99 64 FR 58340 | (c)(144).
* * * * * * *

(d) EPA approved state source-specific requirements.

Name of source | Permit number/type | State effective date | EPA approval date | Additional explanation
Potomac Electric Power Company (PEPCO)—Chalk Point Units #1 and #2 | #49352 Amended Consent Order | 2/27/78 | 4/2/79 44 FR 19192 | 52.1100(c)(22); FRN republished 5/3/79 (44 FR 25840).
* * * * * * *

(e) EPA-approved nonregulatory and quasi-regulatory material.

Name of non-regulatory SIP revision | Applicable geographic area | State submittal date | EPA approval date | Additional explanation
* * * * * * *
Carbon Monoxide Maintenance Plan | City of Baltimore—Regional Planning District 118 | 9/20/95 7/15/04 7/15/04 | 10/31/95 60 FR 55321 4/04/05 70 FR 16958 | 52.1100(c)(117). Revised Carbon Monoxide Maintenance Plan Base Year Emissions Inventory using MOBILE6.
Carbon Monoxide Maintenance Plan | Montgomery County Election Districts 4, 7, and 13; Prince Georges County Election Districts 2, 6, 12, 16, 17, and 18 | 10/12/95 3/3/04 | 1/30/96 61 FR 2931 4/04/05 70 FR 16958 | 52.1100(c)(118). Revised Carbon Monoxide Maintenance Plan Base Year Emissions Inventory using MOBILE6.
* * * * * * *
1-Hour Ozone Attainment Plan | Washington DC 1-hour ozone nonattainment area | 9/2/03 2/24/04 | 11/16/05 70 FR 69440
8-Hour Ozone Maintenance Plan for the Kent and Queen Anne's Area | Kent and Queen Anne's Counties | 5/2/06 5/19/06 | 12/22/06 71 FR 76920
* * * * * * *

[FR Doc. 2011-21260 Filed 8-19-11; 8:45 am]

BILLING CODE 6560-50-P